DEPARTMENT OF THE INTERIOR

Bureau of Land Management

[AK-920-09-1420-BK]

Notice of Filing of Plats of Survey; Alaska

AGENCY: Bureau of Land Management, Interior.

ACTION: Notice of Filing of Plats of Survey.

SUMMARY: Notice of Filing of Plats of Survey; Alaska.

SURVEY DESCRIPTION: The plat and field notes, representing the dependent resurvey of Tract 1, U.S. Survey No. 3026, Alaska, situated in the Municipality of Anchorage within T. 13 N., R. 3 W., Seward Meridian, was accepted October 3, 2008.

DATES: The plat of survey described above is scheduled to be officially filed in the Alaska State Office, Bureau of Land Management, Anchorage, Alaska, November 24, 2008.

ADDRESSES: Bureau of Land Management, Alaska State Office; 222 W. 7th Ave., Stop 13; Anchorage, AK 99513-7599.

FOR FURTHER INFORMATION CONTACT: Frank A. Hardt, Riparian Boundary Specialist, Division of Cadastral Survey, BLM-Alaska State Office; 222 W. 7th Ave., Stop 13; Anchorage, AK 99513-7599; Tel: 907-271-3182; fax: 907-271-4549; e-mail: frank_hardt@blm.gov.

SUPPLEMENTARY INFORMATION: The survey plat and field notes will be available for inspection in the Public Information Center, Alaska State Office, Bureau of Land Management, 222 West 7th Avenue, Anchorage, Alaska, 99513-7599; telephone (907) 271-5960. Copies may be obtained from this office for a minimum recovery fee.

If a protest against the survey is received prior to the date of official filing, the filing will be stayed pending consideration of the protest. A plat will not be officially filed until the day after all protests have been dismissed.

A person or party who wishes to protest against this survey must file a written response with the Alaska State Director, Bureau of Land Management, stating that they wish to protest.

A statement of reasons for a protest may be filed with the notice of protest to the State Director; the statement of reasons must be filed with the State Director within thirty days after the protest is filed.

Authority: Title VI of Public Law 97-468 (96 Stat. 2556)

Dated: October 14, 2008.
John A. Sroufe,
Chief Cadastral Surveyor, Alaska.

[FR Doc. E8-24979 Filed 10-23-08; 8:45 am]

BILLING CODE 4310-JA-P